DEPARTMENT OF THE INTERIOR

Minerals Management Service

Preparation of a Multi-Project Environmental Assessment To Evaluate the Potential Environmental Impacts Associated With the Removal of Sand Resources From Ship Shoal, Offshore Central Louisiana

AGENCY: Minerals Management Service (MMS), Interior.

ACTION: Preparation of an environmental assessment.

SUMMARY: MMS is preparing an environmental assessment (EA) to examine the potential effects on the marine and coastal environments of using sand from Ship Shoal, a sand shoal located approximately 10 miles south of Isle Dernieres, offshore the central coast of Louisiana. Geological and geophysical studies of Ship Shoal have determined that the shoal's sand is an ideal source of material to place on the rapidly eroding Louisiana barrier islands. Several coastal restoration and storm protection projects that propose to use sand from Ship Shoal are already in the planning stages. The Louisiana Department of Natural Resources (LDNR), the U.S. Environmental Protection Agency (EPA), and the U.S. Army Corps of Engineers (USACE) are assisting during development of the EA. We will publish an announcement in the Federal Register when the EA has been completed and is available to the public.

Public Comment: MMS requests interested parties to submit comments specific to the environmental issues related to the removal of sand resources from Ship Shoal. Comments should be sent to Chief, Leasing Division, Minerals Management Service, 381 Elden Street, Mail Stop 4030, Herndon, Virginia 20170. In addition, comments may be sent by e-mail to barry.drucker@mms.gov. Your comments should be submitted on or before July 1, 2003.

FOR FURTHER INFORMATION CONTACT: Minerals Management Service, Leasing Division, Sand and Gravel Unit, 381 Elden Street, Mail Stop 4030, Herndon, Virginia 20170, Mr. Barry Drucker, telephone (703) 787-1296, e-mail: barry.drucker@mms.gov.

SUPPLEMENTARY INFORMATION: Louisiana's coastal land loss problem continues at a rate of more than 30 square miles per year severely affecting the storm buffering capacity and the protection that nearshore barrier islands provide to human populations, oil and gas infrastructure, inland bays, estuaries, and wetlands. The bays inshore of the islands are huge estuaries where freshwater and saltwater mix and most of Louisiana's commercial and recreational fish depend on them during parts of their life cycle. Without barrier islands, coastal fisheries will experience significant adverse impacts. The entire Isle Dernieres chain in offshore central Louisiana, a critical component of the Louisiana barrier island system, is projected to be lost by the year 2010. A study by the Coastal Wetlands Planning, Protection and Restoration Act task force recommended returning Isles Dernieres and the Timbalier Islands to 1992 conditions (pre-Hurricane Andrew), which would require adding sand to build them to a width of about 1,230 feet wide and 8-9 feet above sea level. The current overall strategy is to restore the island chains to a condition suitable for providing coastal protection and for maintaining the integrity of the estuarine system.

Geological and geophysical studies of Ship Shoal indicate that very significant similarities exist among the properties of Ship Shoal and the nearby barrier islands. Ship Shoal sand is considered ideal material for use in restoration and nourishment projects along the Louisiana coast within the Terrebonne and Barataria Basins. Resource estimates for the volumes of sand comprising the Ship Shoal structure are 1.2 billion cubic meters.

MMS has already been notified by LDNR and EPA that they will seek leases for the use of Ship Shoal sand for planned projects at Whiskey Island and New Cut, Louisiana. In addition, USACE is considering using Ship Shoal sand as a base for the levee system for the Morganza to the Gulf Hurricane Protection Project. Besides these efforts, MMS anticipates that Ship Shoal will serve as a long-term source of material for further Louisiana coastal restoration efforts well into the future.

Public Law 103-426, enacted October 31, 1994, gave MMS the authority to convey, on a noncompetitive basis, the rights to Federal sand, gravel, or shell resources for shore protection, beach or wetlands restoration projects, or for use in construction projects funded in whole or in part by or authorized by the Federal Government.

Dated: May 12, 2003.
Thomas A. Readinger,
Associate Director for Offshore Minerals Management.

[FR Doc. 03-13957 Filed 6-3-03; 8:45 am]

BILLING CODE 4310-MR-P